DEPARTMENT OF THE TREASURY

Departmental Offices; International Monetary Fund Advisory Committee

AGENCY: Department of the Treasury.

ACTION: Notice of meeting.

SUMMARY: Under section 610 of the Foreign Operations, Export Financing and Related Programs Appropriations Act, 1999, the Secretary of the Treasury is required to establish an International Monetary Fund Advisory Committee (the “Committee”) to advise the Secretary of the IMF policy.

DATES: The fifth meeting of the Committee will be held on December 18, 2000, beginning at 2 p.m. in the Diplomatic Room located on the third floor of the main Department of the Treasury building, 1500 Pennsylvania Avenue, NW, Washington, DC.

FOR FURTHER INFORMATION CONTACT: Designated Federal Official: William McFadden, Senior Policy Advisor, Office of International Monetary and Financial Policy, (Room 4305, NY Ave. Bldg.), Department of the Treasury, 1500 Pennsylvania Avenue NW, Washington, D.C., 20220. Telephone number 202-622-0343, fax number (202) 622-7664.

SUPPLEMENTARY INFORMATION: Notice of this meeting is given under the Federal Advisory Committee Act, 5 U.S.C. App. 2.

Agenda of Meeting

The IMF Advisory Committee will continue discussions regarding the reforms of the IMF called for by Congress in various pieces of legislation. The reforms may be broadly categorized in the areas of trade and market liberalization, social policy, core labor standards, the environment, good governance, and transparency.

Procedural

This meeting is open to the public. Please note that the meeting may close early if all business is finished. If you wish to attend please FAX your full name, date of birth and social security number to the Designated Federal Official no later than 4 p.m., December 14th, for clearance into the Treasury building. Members of the public who have provided such information, must enter the main Treasury building at the entrance on 15th Street between F and G Streets, and must provide a photo ID at the entrance to be admitted into the building.

Members of the public may submit written comments. If you wish to furnish such comments, please provide 16 copies of your written material to the Designated Federal Official. If you wish to have your comments distributed to members of the Committee in advance of the fourth meeting, 16 copies of any written material should be provided to the Designated Federal Official no later than December 12, 2000.

Dated: November 28, 2000.
William McFadden,
Designated Federal Official.

[FR Doc. 00-30845 Filed 12-4-00; 8:45 am]

BILLING CODE 4810-25-M